CONSUMER PRODUCT SAFETY COMMISSION

[Docket No. CPSC-2020-0021]

Agency Information Collection Activities; Submission for OMB Review; Comment Request—Child Strength Study

AGENCY: Consumer Product Safety Commission.

ACTION: Notice.

SUMMARY: As required by the Paperwork Reduction Act of 1995, the Consumer Product Safety Commission (CPSC or Commission) announces that CPSC has submitted to the Office of Management and Budget (OMB) a new proposed collection of information for a study that will assess the strength capabilities of children. On August 31, 2020, CPSC published a notice in the Federal Register announcing the agency's intent to seek approval of this collection of information. After reviewing and considering the comments CPSC received, by publication of this notice, the Commission announces that CPSC has submitted to OMB a request for approval of this collection of information.

DATES: Submit written comments on this request for approval of information collection requirements by February 18, 2021.

ADDRESSES: Send written comments and recommendations for the proposed information collection within 30 days of publication of this notice to: www.reginfo.gov/public/do/PRAMain. Find this particular information collection by selecting, “Currently under 30-day Review—Open for Public Comments,” or by using the search function. In addition, written comments that are sent to OMB also should be submitted electronically at: http://www.regulations.gov, under Docket No. CPSC-2020-0021.

FOR FURTHER INFORMATION CONTACT: Cynthia Gillham, Consumer Product Safety Commission, 4330 East-West Highway, Bethesda, MD 20814; (301) 504-7791, or by email to: CGillham@cpsc.gov.

SUPPLEMENTARY INFORMATION:

A. Background

Under the Paperwork Reduction Act of 1995 (PRA; 44 U.S.C. 3501-3520), federal agencies must obtain approval from OMB for each collection of information they conduct or sponsor. “Collection of information” is defined in 44 U.S.C. 3502(3) and 5 CFR 1320.3(c) and includes agency data-collection studies. The PRA establishes procedures agencies must follow to obtain OMB approval for a collection of information, including notice and a review of comments, among others. Agencies must provide notice of the proposed collection of information in the Federal Register, and provide a 60-day comment period, before submitting the collection to OMB for approval. 44 U.S.C. 3506(c)(2)(A). Agencies then must evaluate any public comments and publish another notice in the Federal Register. Id. 3507(a)(1).

In accordance with these procedures, on August 31, 2020, CPSC published a notice in the Federal Register announcing the agency's intent to seek approval of a new collection of information on a CPSC Child Strength Study that will assess the strength capabilities of children. 85 FR 53800 (Aug. 31, 2020). Section C. Comments, below, summarizes and addresses the comments CPSC received.

B. Study

Section 5(a) of the Consumer Product Safety Act (CPSA; 15 U.S.C. 2051-2089) authorizes the Commission to conduct studies and investigations relating to the causes and prevention of deaths, accidents, injuries, illnesses, other health impairments, and economic losses associated with consumer products. 15 U.S.C. 2054(a). Section 5(b) of the CPSA further provides that the Commission may conduct research, studies, and investigations on the safety of consumer products or test consumer products and develop product safety test methods and testing devices. Id. 2054(b).

CPSC uses data on human strength capabilities to develop product safety standards and inform other CPSC staff activities. CPSC's product safety work includes developing mandatory standards, enforcing existing safety requirements, and working with voluntary standards organizations to improve the safety of consumer products, including children's products. Products that are intended for children, and products that are not intended for children, can pose a hazard to a child (e.g., if the product or a component of it breaks, collapses, or liberates a small part). Information about children's strength capabilities is essential to improving product safety, because it can inform the development of performance requirements that consider children's interactions with product components. Manufacturers can also use this information when designing products.

In the 1970s, CPSC sponsored studies to conduct research on human size and strength; specifically, Snyder et al. (1975 ¹ and 1977 ²), studied child anthropometry and Owings et al. (1975 ³ and 1977 ⁴), studied child strength. The research results were instrumental for many years in developing product safety standards; however, because the strength studies occurred more than 40 years ago, the information needs to be updated. Moreover, more recent studies lack information on younger children and additional strength measures, and only collected data from a very small number of children. CPSC expects that the proposed information-collection activity would provide CPSC staff with information that reflects more accurately the strength capabilities of children today, as well as data that are not available in literature currently, including data on younger children and additional strength measures.

¹ Snyder, R.G., Spencer, M.L., Owings, C.L., and Schneider, L.W. (1975). The Physical Characteristics of Children as Related to Death and Injury for Consumer Product Design and Use (Report No. UM-HSRI-BI-75-5). Prepared for the U.S. Consumer Product Safety Commission. Ann Arbor, MI: The Highway Safety Research Institute, University of Michigan.

² Snyder, R.G., Schneider, L.W., Owings, C.L., Reynolds, H.M., Golomb, D.H., and Schork, M.A. (1977). Anthropometry of Infants, Children, and Youths to Age 18 for Product Safety Design.Final Report UM-HSRI-77-17. University of Michigan Transportation Research Institute, Ann Arbor, MI. Prepared for the U.S. Consumer Product Safety Commission, Washington, D.C. 014926-F.

³ Owings, C.L., Chaffin, D.B., Snyder, R.G., and Norcutt, R.H. (1975). Strength Characteristics of U.S. Children for Product Safety Design. U.S. Consumer Product Safety Commission, Bethesda, MD.

⁴ Owings, C.L., Norcutt, R.H., Snyder, R.G., Golomb, D.H., and Lloyd, K.Y. (1977). Gripping Strength Measurements of Children for Product Safety Design (Contract No. CPSC-C-76-0119).

The proposed study would collect data from a sample of up to approximately 800 children between the ages of 3 months and 5 years to assess children's strength capabilities. The proposed study would collect data on bite strength for children ages 3 months through 5 years, and strength data for children ages 6 months through 5 years. The information collected from the proposed study would provide CPSC staff with updated child strength measures, including upper and lower extremities and bite strength for expanded age ranges. With this information, CPSC would have more accurate and current data for developing voluntary and mandatory safety standards. This information will also help staff to analyze injuries and deaths of children interacting with consumer products and determine whether a product presents a safety hazard.

CPSC has contracted with the University of Michigan to conduct the proposed study and collect the data. A team of researchers at the University of Michigan Transportation Research Institute (UMTRI) will lead the study, and the study will be conducted at UMTRI Laboratories in Ann Arbor, MI. The contractor will recruit children to participate through their caregivers, using the University of Michigan Engage site, Craigslist, and flyers placed at UMTRI. The contractor will create a customized tool for data collection and feedback. The contractor will assign participants a random identification number that is not linked to any personal identifying information and will de-identify photos and videos of participants, taken to document their exertion postures, by blurring the faces. Participation will be voluntary, and information collected from participants will be kept confidential and used only for research purposes. Following data collection, the contractor will provide CPSC staff with raw strength and position data (with identifying information removed), as well as a final report. After CPSC staff has reviewed and approved the final report, CPSC will release the report on the agency's website and through presentations at meetings and conferences related to the subject matter, in accordance with applicable laws and Commission policy.

A copy of the proposed study, titled, “Child Strength Study-Final Supporting Statement and Justification,” is available at: www.regulations.gov under Docket No. CPSC-2020-0021, Supporting and Related Material.

C. Comments

CPSC received four comments in response to the August 31, 2020 notice. All four commenters supported the information collection; however, two of the commenters also suggested specific or additional measures to collect or analyze as part of the study.

One commenter recommended collecting metrics on children's hand grip strength, push strength, pull strength, push-up head strength, and seated leg press strength. CPSC already plans to collect information about children's hand grip strength, push strength, pull strength, and seated leg press strength, as part of this study. Although CPSC does not plan to collect information about children's push up head strength, the commenter suggested this measure for purposes of evaluating entrapment hazards, and CPSC already plans to collect children's head entrapment measures as part of the study.

The same commenter also recommended directly correlating data with the age of the child tested, to provide more detailed information to identify safe product designs. CPSC plans to group data into 3-month, 6-month, and 1-year age ranges, with smaller groupings for younger ages. Each age group will include approximately 50 participants. This approach will provide more age-specific information than previous studies, which grouped children into 3-year age ranges. CPSC could provide results for specific ages, however, this information would have limited use, because each specific age likely will have a small number of participants.

Another commenter recommended collecting a wide range of information on static anthropometry, functional anthropometry, physical abilities, and psychological abilities. The static anthropometry measures (e.g., weight, head breadth) that the commenter requested would not require any modifications to the study. Rather, they would involve additional analysis of information that will already be collected as part of the body scan data in the study. CPSC agrees that this information may be useful and plans to request this additional data analysis as part of the final study report.

In contrast, the functional anthropometry measures (e.g., overhead reach to grip) that the commenter requested would require modifying the study to collect additional measures. Based on study design and participant fatigue, child participants can only be in the laboratory for 2 hours. The data collection that is already part of the study will take 2 hours; additional measures would exceed the 2-hour allotted time. If CPSC determines, upon review of the final study report, that more information is necessary, and that additional measures need to be evaluated, staff will consider collecting supplemental information at that time.

CPSC already plans to collect most of the physical abilities measures (e.g., pushing forward, pinch force) that the commenter recommended. CPSC is not collecting the psychological abilities measures (e.g., reaction time to visual stimuli) that the commenter requested because those measures are not within the scope of this study. The focus of this study is on children's anthropometrics and strength.

This commenter also recommended compiling data for children from various countries, so that a comprehensive data set is available for companies that distribute products globally. CPSC cannot collect data from participants in other countries or compel other countries to collect child strength data. However, the data CPSC collects as part of this study will be publicly available, so interested parties may combine it with information from other countries to create a comprehensive data set.

CPSC's review and consideration of the comments yielded no basis for modifying the supporting statement for the study. Therefore, by publication of this notice, the Commission announces that CPSC has submitted to OMB a request for approval of this collection of information.

D. Burden Hours

The only change to the supporting statement corrects typographical errors to the burden hours for the federal government. The correct burden hours and costs are below. Although CPSC's 60-day Federal Register notice correctly stated these numbers, the supporting statement on www.Regulations.gov reflected slightly different numbers based on older Employer Costs for Employee Compensation. The final supporting statement, which is available in the docket for this notice, corrects those errors.

CPSC estimates that the study will involve 3,050 respondents and take a total of 1,813 hours over the duration of the study. The monetized hourly cost for the adult caregiver of a participant is $37.73, as defined by the average total hourly cost to employers for employee compensation for all civilian employees across all occupations as of March 2020, reported by the Bureau of Labor Statistics, Employer Costs for Employee Compensation. Accordingly, CPSC estimates the total cost burden to be $68,404 (1,813 hours × $37.73 = $68,404).

The estimated cost to the federal government for the contract to design and conduct the study issued to the University of Michigan under contract number 61320618D0004 is $1,134,502. The estimated salary and benefits costs for government personnel assigned to this study are $170,356, based on 12 staff months in 2020, at an average level of GS-13 step 5 in the Washington, DC area, effective January 2020 ($116,353) and a 68.3 percent ratio of wages and salary to total compensation (all civilian management, professional, and related workers) from Table 2 of the March 2020 Employer Costs for Employee Compensation, published by the Bureau of Labor Statistics. Therefore, the total estimated cost to the federal government is $1,134,502 for the contract, plus $170,356 in government labor costs, for a total of $1,304,858.

Alberta E. Mills,
Secretary, Consumer Product Safety Commission.

[FR Doc. 2021-00974 Filed 1-15-21; 8:45 am]

BILLING CODE 6355-01-P